DEPARTMENT OF HEALTH AND HUMAN SERVICES

National Institutes of Health

Government-Owned Inventions; Availability for Licensing

AGENCY: National Institutes of Health, Public Health Service, DHHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent application listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent application.

Intracellular Trapping of Radionuclides by Enzyme-Mediated Reduction

Fangyu Peng, King Li, Sunil Pandit (CC).

U.S. Provisional Application filed 30 Sep 2003 (DHHS Reference No. E-083-2003/0-US-01).

Licensing Contact: Michael Shmilovich; 301/435-5019; shmilovm@mail.nih.gov.

The invention provides a novel technique for intracellular trapping of radionuclides for use in cancer therapy and imaging. The technique includes enzyme-mediated intracellular trapping of a radionuclide in a target cell by transfecting the target cell with a transgenic vector encoding a microbial hydrogenase and treating the transfected target cell with a radionuclide. The transgenically expressed microbial hydrogenase catalyzes the reduction of the radionuclide. The reduced radionuclide is trapped intracellularly where its emissions can be detected in radioscintigraphy applications. Emissions from intracellularly trapped radionuclides can also be cytotoxic to the target cell and therefore useful in radiotherapy applications. The invention further provides a reporter mechanism wherein a microbial hydrogenase encoding nucleic acid is included in a vector along with a transgene, both under the control of the same promoter. The detection of emissions from intracellularly reduced and trapped radionuclides is used to monitor transgene expression.

Lutozmyia longipalpis Polypeptides and Methods of Use

Jesus G. Valenzuela, José M.C. Ribeiro (NIAID).

U.S. Provisional Application No. 60/422,203 filed 29 Oct 2002 (DHHS Reference No. E-285-2002/0-US-01).

Licensing Contact: Peter Soukas; 301/435-4646; soukasp@mail.nih.gov.

Leishmania parasites are transmitted to their vertebrate hosts by infected phlebotomine sand fly bites. Sand fly saliva is known to enhance Leishmania infection, while immunity to the saliva protects against infection. This invention claims a number of major salivary proteins from the sand fly vector of Leishmania major, Lutzomyia longipalpis, nucleic acids encoding the proteins, vaccines comprising the proteins and/or nucleic acids, and methods of producing an immune response to prevent Leishmaniasis.

The inventors have shown that similar salivary proteins are able to protect vaccinated mice challenged with parasites plus salivary gland homogenates (SGH). The vaccine comprises a DNA vaccine encoding the salivary proteins. In one experiment with mice, the vaccine produced both intense humoral and delayed-type hypersensitivity (DTH) response. The inventors are continuing to experiment preclinically with this vaccine.

Dated: November 4, 2003.
Steven M. Ferguson,
Director, Division of Technology Development and Transfer, Office of Technology Transfer, National Institutes of Health.

[FR Doc. 03-28559 Filed 11-13-03; 8:45 am]

BILLING CODE 4140-01-P